INTERNATIONAL TRADE COMMISSION

[Investigation No. TA-421-3]

Certain Brake Drums and Rotors From China

Determination

On the basis of information developed in the subject investigation, the United States International Trade Commission determines, pursuant to section 421(b)(1) of the Trade Act of 1974,¹ that certain brake drums and rotors ² from the People's Republic of China are not being imported into the United States in such increased quantities or under such conditions as to cause or threaten to cause market disruption to the domestic producers of like or directly competitive products.

¹ 19 U.S.C. 2451(b)(1).

² For purposes of this investigation, aftermarket brake drums and aftermarket brake rotors are defined as certain brake drums and certain brake rotors made of gray cast iron, whether finished, semifinished, or unfinished, ranging in diameter from 8 to 16 inches (20.32 to 40.64 centimeters) and in weight from 8 to 45 pounds (3.63 to 20.41 kilograms). The size parameters (weight and dimension) of the brake drums and brake rotors limit their use to the following types of motor vehicles: automobiles, all-terrain vehicles, vans and recreational vehicles under “one ton and a half,” and light trucks designated as “one ton and a half.”

Finished aftermarket brake drums and finished aftermarket brake rotors are those that are ready for sale and installation without any further operations. Semifinished aftermarket brake drums and semifinished aftermarket brake rotors are those on which the surface is not entirely smooth, and has undergone some drilling. Unfinished aftermarket brake drums and unfinished aftermarket brake rotors are those which have undergone some grinding or turning.

The brake drums and brake rotors are for motor vehicles, and do not contain in the casting a logo of an original equipment manufacturer which produces vehicles sold in the United States (e.g., General Motors, Ford, DaimlerChrysler, Honda, Toyota, Volvo). Brake drums and brake rotors covered in this investigation are not certified by OEM producers of vehicles sold in the United States. The scope also includes composite brake drums and composite brake rotors that are made of gray cast iron, which contain a steel plate, but otherwise meet the above criteria.

The imported products are provided for in subheading 8708.39.50 of the HTS at a general duty rate of 2.5 percent ad valorem. Although the HTS category is provided for convenience and Customs purposes, the written description of the merchandise under investigation is dispositive.

Background

Following receipt of a petition, as amended, filed on June 6, 2003, on behalf of the Coalition for the Preservation of American Brake Drum and Rotor Aftermarket Manufacturers, the Commission instituted investigation No. TA-421-3, Certain Brake Drums and Rotors from China, under section 421 of the Trade Act of 1974 to determine whether certain brake drums and rotors from China are being imported into the United States in such increased quantities or under such conditions as to cause or threaten to cause market disruption to the domestic producers of like or directly competitive products.

Notice of the institution of the Commission's investigation and of the scheduling of a public hearing to be held in connection therewith was given by posting a copy of the notice on the Commission's Web site (http://www.usitc.gov) and by publishing the notice in the Federal Register of June 16, 2003 (68 FR 35702). The hearing was held on July 18, 2003 in Washington, DC; all persons who requested the opportunity were permitted to appear in person or by counsel.

The views of the Commission are contained in USITC Publication 3622 (August 2003), entitled Certain Brake Drums and Rotors from China: Investigation No. TA-421-3.

By order of the Commission.
Issued: August 5, 2003.
Marilyn R. Abbott,
Secretary to the Commission.

[FR Doc. 03-20813 Filed 8-14-03; 8:45 am]

BILLING CODE 7020-02-P